DEPARTMENT OF AGRICULTURE

Forest Service

National Urban and Community Forestry Advisory Council

AGENCY: Forest Service, USDA.

ACTION: Notice of call for nominations 2010.

SUMMARY: The National Urban and Community Forestry Advisory Council, (NUCFAC) will be filling four positions that will be expiring at the end of December 2009, and one interim term position. Interested applicants may download a copy of the application and position descriptions from the U.S. Forest Service's Urban and Community Forestry Web site: http://www.fs.fed.us/ucf/.

DATES: Nomination(s) must be “received” (not postmarked) by January 29, 2010.

ADDRESSES: Nomination applications sent by courier should be addressed to: Nancy Stremple, Executive Staff to National Urban and Community Forestry Advisory Council, 1400 Independence Avenue, SW., Yates Building (1 Central) MS-1151, Washington, DC 20250-1151. Please submit electronic nomination(s) to: nucfac_ucf_proposals@fs.fed.us. The subject line should read: 2010 NUCFAC Nominations.

FOR FURTHER INFORMATION CONTACT: Nancy Stremple, Executive Staff or Mary Dempsey, Staff Assistant to National Urban and Community Forestry Advisory Council, 1400 Independence Avenue, SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION:

Facsimiles will not be accepted as official nominations. E-mail or a courier service is recommended. Regular mail submissions must be screened by the Agency and may delay the receipt of the application up to a month.

A total of five positions will be filled. The following four positions will serve 3-year term appointments from January 1, 2010, to December 31, 2012. Positions to be filled are for:

• A member who is not currently an officer or employee of any government body living in a city with a population of less than 50,000 and who has experience and has been active in urban and community forestry.

• A member representing city/town government.

• One of two members representing a national non-profit forestry and/or conservation citizen organization.

• One of two members representing academic institutions with an expertise in urban and community forestry activities.

The fifth position will fill an interim term appointment (January 1, 2009 to December 31, 2010):

• A person representing forest products, nursery, or related industries.

Dated: December 9, 2009.
Robin L. Thompson,
Associate Deputy Chief, State and Private.

[FR Doc. E9-30113 Filed 12-17-09; 8:45 am]

BILLING CODE 3410-11-P